DEPARTMENT OF COMMERCE

National Oceanic and Atmospheric Administration

RIN 0648-XG881

Marine Mammals; File No. 22686

AGENCY: National Marine Fisheries Service (NMFS), National Oceanic and Atmospheric Administration (NOAA), Commerce.

ACTION: Notice; extension of comment period.

SUMMARY: Notice is hereby given that the National Marine Fisheries Service is extending the public comment period associated with the notice of receipt for an application for a permit to import bottlenose dolphins (Tursiops truncatus) submitted by the Chicago Zoological Society.

DATES: Written, telefaxed, or email comments must be received on or before May 16, 2019.

ADDRESSES: The application and related application documents are available for review online at https://www.fisheries.noaa.gov/action/permit-application-import-3-bottlenose-dolphins-file-no-22686-chicago-zoological-society or upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 22686 in the subject line of the email comment.

FOR FURTHER INFORMATION CONTACT: Jennifer Skidmore and Courtney Smith, (301) 427-8401.

SUPPLEMENTARY INFORMATION: On March 19, 2019 (84 FR 10044), the National Marine Fisheries Service (NMFS) published notice of a permit application submitted by the Chicago Zoological Society, Brookfield Zoo (Bill Zeigler, Responsible Party), 3300 Golf Road, Brookfield, IL 60513. The applicant is requesting to import up to three captive born bottlenose dolphins from Dolphin Quest Bermuda to either the Brookfield Zoo in Brookfield, IL or Coral World Ocean Park in St. Thomas, U.S. Virgin Islands for public display purposes. The requested duration of the permit is five years.

During the 30-day comment period, NMFS received several requests for a 60 day extension of the public comment period and for a public hearing. NMFS is extending the public comment period for an additional 30 days for commenters to review additional information received from the applicant. Regarding the public hearing, NMFS has determined that a public hearing is not warranted as comments and documentation related to this MMPA permit application can be provided in writing.

Dated: April 11, 2019.
Amy Sloan,
Acting Chief, Permits and Conservation Division, Office of Protected Resources, National Marine Fisheries Service.

[FR Doc. 2019-07532 Filed 4-15-19; 8:45 am]

BILLING CODE 3510-22-P